ENVIRONMENTAL PROTECTION AGENCY

[EPA-HQ-OPP-2007-1164; FRL-8344-2]

Pesticide Product Registration Approval

AGENCY: Environmental Protection Agency (EPA).

ACTION: Notice.

SUMMARY: This notice announces Agency approval of applications to register the pesticide products R-Octenol, Technical Indole-3-Acetic Acid, Quillaja Extract, and Shake-Away Critter Repellent Granules containing active ingredients not included in any previously registered products pursuant to the provisions of section 3(c)(5) of the Federal Insecticide, Fungicide, and Rodenticide Act (FIFRA), as amended.

FOR FURTHER INFORMATION CONTACT: See the table for the name of the contact persons: Biopesticides and Pollution Prevention Division (7511P), Office of Pesticide Programs, Environmental Protection Agency, 1200 Pennsylvania Ave., NW., Washington, DC 20460-0001:

Contact Person | EPA Registration No.
Todd Peterson peterson.todd@epa.gov (703) 308-7224 | 52991-19 80917-4
Driss Benmhend benmhend.driss@epa.gov (703) 308-9525 | 82572-1
M. Duggard duggard.mari@epa.gov (703) 308-0028 | 57538-28

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under docket identification (ID) number EPA-HQ-OPP-2007-1164. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. Such requests should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr.

II. Did EPA Approve the Applications?

The Agency approved the applications after considering all required data on risks associated with the proposed use of R-(-)-1-octen-3-ol, Indole-3-acetic acid, Saponins of Quillaja saponaria, fox urine, and information on social, economic, and environmental benefits to be derived from use. Specifically, the Agency has considered the nature of the chemical and its pattern of use, application methods and rates, and level and extent of potential exposure. Based on these reviews, the Agency was able to make basic health and safety determinations which show that use of R-(-)-1-octen-3-ol, Indole-3-acetic acid, Saponins of Quillaja saponaria, and fox urine when used in accordance with widespread and commonly recognized practice, will not generally cause unreasonable adverse effects to the environment.

III. Approved Applications

1. EPA issued a notice, published in the Federal Register of September 6, 2006 (71 FR 52538) (FRL-8087-9), which announced that Bedoukian Research, Inc., 21 Finance Drive, Danbury, CT 06810, had submitted an application to register the pesticide product, Roctenol, Insect Attractant (EPA File Symbol 52991-RO), containing R-(-)-1-octen-3-ol at 98%. This product was not previously registered.

The application was approved on July 3, 2007, as R-Octenol (EPA Registration Number 52991-19) for a technical grade active ingredient/manufacturing use product to be formulated into end use products as an insect attractant. (T. Peterson).

2. EPA issued a notice, published in the Federal Register of November 1, 2006 (71 FR 64265) (FRL-8095-3), which announced that Stoller Enterprises, Inc., had submitted an application to register the pesticide product, Technical Indole-3-Acetic Acid, for use as a plant growth regulator (EPA File Symbol 57538-EI), containing Indole-3-acetic acid at 99%. This product was not previously registered.

The application was approved on August 2, 2007, as Technical Indole-3-Acetic Acid (EPA Registration Number 57538-28) for use as a plant growth regulator on ornamental and food crops. (M. Duggard).

3. EPA issued a notice, published in the Federal Register of April 5, 2006 (71 FR 17095) (FRL-7769-3), which announced that Desert King Ltd., had submitted an application to register the pesticide product, Quillaja Saponaria Extract, for use to control parasitic nematodes and fungi (EPA File Symbol 82572-R), containing of Saponins of Quillaja saponaria at 7.5%. This product was not previously registered.

The application was approved on August 14, 2007, as Quillaja Extract (EPA Registration Number 82572-1) for use to control parasitic nematodes and fungi on ornamental plants, vineyards, orchards, and field crops. (Driss Benmhend).

4. EPA issued a notice, published in the Federal Register of December 15, 2004 (69 FR 75063) (FRL-7687-7), which announced that Shake Away, 2330 Whitney Avenue, Hamden, CT, 06518, had submitted an application to register the pesticide product, Small Critter Repellent Granules, animal repellent (EPA File Symbol 80917-U), containing fox urine at 5%. This product was not previously registered.

The application was approved on December 11, 2007, as Shake-Away Critter Repellent Granules (EPA Registration Number 80917-4) for an end use product as an animal repellent. (T. Peterson).

List of Subjects

Environmental protection, Chemicals, Pests and pesticides.

Dated: January 3, 2008.
Janet L. Andersen,
Director, Biopesticides and Pollution Prevention Division, Office of Pesticide Programs.

[FR Doc. E8-444 Filed 1-15-08; 8:45 am]

BILLING CODE 6560-50-S